DEPARTMENT OF HOMELAND SECURITY

Coast Guard

33 CFR Part 117

[Docket No. USCG-2011-1090]

Drawbridge Operation Regulation; Willamette River, Portland, OR

AGENCY: Coast Guard, DHS.

ACTION: Notice of temporary deviation from regulations.

SUMMARY: The Commander, Thirteenth Coast Guard District, has issued a temporary deviation from the regulation governing the operation of the Morrison Bridge across the Willamette River, mile 12.8, at Portland, OR. The deviation is necessary to complete major rehabilitation of the bridge. This deviation allows single leaf operations during rehabilitation and requires a two hour advance notification for a single leaf opening.

DATES: This deviation is effective from 6 a.m. on December 1, 2011 through 6 p.m. on May 27, 2012.

ADDRESSES: Documents mentioned in this preamble as being available in the docket are part of docket USCG-2011-1090 and are available online by going to http://www.regulations.gov, inserting USCG-2011-1090 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email the Bridge Administrator, Coast Guard Thirteenth District; telephone (206) 220-7282 email randall.d.overton@uscg.mil. If you have questions on viewing the docket, call Renee V. Wright, Program Manager, Docket Operations, telephone (202) 366-9826.

SUPPLEMENTARY INFORMATION: Multnomah County has requested to operate the Morrison Bascule Bridge with single leaf openings with two hours advance notice. Single leaf openings are required to facilitate major maintenance activity and deck rehabilitation on the bridge. The Morrison Bridge crosses the Willamette River at mile 12.8. The Morrison Bridge is charted on NOAA Chart 18526 with a vertical clearance of 69 ft above Columbia River Datum Mean Lower Low Water in the closed position. Under normal operations the bridge operates under 33 CFR 117.897 which requires a one hour notice for openings between 8 a.m. and 5 p.m. on weekdays and two hour notice for openings at all other times. This current deviation states the Morrison Bridge is allowed to operate with single leaf openings. The bridge will promptly open a single leaf when at least two hours of advanced notice is given. This deviation is effective from 6 a.m. on December 1, 2011 through 6 p.m. on May 27, 2012. This stretch of the Willamette River experiences moderate maritime traffic volumes including vessels ranging from small recreational craft to commercial tug and tow. During this maintenance period a debris containment system will be attached to the inoperable bascule leaf and will reduce the vertical clearance under the inoperable leaf up to 8 ft. Vessels which do not require a bridge opening may continue to transit beneath the bridge during this deviation period. An assist tug will be provided for larger vessels when maneuvering is constrained by the limited opening.

In accordance with 33 CFR 117.35(e), the drawbridge must return to its regular operating schedule immediately at the end of the designated time period. This deviation from the operating regulations is authorized under 33 CFR 117.35.

Dated: November 23, 2011.
Randall D. Overton,
Bridge Administrator.

[FR Doc. 2011-31328 Filed 12-6-11; 8:45 am]

BILLING CODE 9110-04-P